NATIONAL TRANSPORTATION SAFETY BOARD

Sunshine Act Meeting

Time and Date: 9:30 a.m., Thursday, February 18, 2010.

Place: NTSB Conference Center, 429 L'Enfant Plaza, SW., Washington, DC 20594.

Status: The One item is open to the public.

Matter to be Considered:

5300J Most Wanted List Transportation Safety Improvements, February 2010 Progress Report and Update on Federal Issues.

News Media Contact: Telephone: (202) 314-6100.

The press and public may enter the NTSB Conference Center one hour prior to the meeting for set up and seating.

Individuals requesting specific accommodations should contact Rochelle Hall at (202) 314-6305 by Friday, February 12, 2010.

The public may view the meeting via a live or archived webcast by accessing a link under “News & Events” on the NTSB home page at http://www.ntsb.gov.

FOR FURTHER INFORMATION CONTACT: Candi Bing, (202) 314-6403.

Dated: January 29, 2010.
Candi R. Bing,
Federal Register Liaison Officer.

[FR Doc. 2010-2259 Filed 1-29-10; 4:15 pm]

BILLING CODE 7533-01-P